DEPARTMENT OF HEALTH AND HUMAN SERVICES

Centers for Disease Control and Prevention

Disease, Disability, and Injury Prevention and Control Special Emphasis Panel (SEP): Cooperative Agreements for Prevention Research Centers, Supplemental Awards under Program Announcement 98047

In accordance with section 10(a)(2) of the Federal Advisory Committee Act (Public Law 92-463), the Centers for Disease Control and Prevention (CDC) announces the following meeting. This notice is published less than 15 days in advance of the meeting due to administrative delays.

NAME: Disease, Disability, and Injury Prevention and Control Special Emphasis Panel (SEP): Cooperative Agreements for Prevention Research Centers, Supplemental Awards under Program Announcement 98047, meeting.

TIMES AND DATES: 1 p.m.-1:30 p.m., August 9, 2000 (Open). 1:30 p.m.-4 p.m., August 9, 2000 (Closed).

PLACE: The teleconference call will originate in the National Center for Chronic Disease Prevention and Health Promotion, Prevention Research Centers Program, Koger Center, Rhodes Building, 3005 Chamblee Tucker Rd., Atlanta, Ga 30341. Open access to the call will be available from 1-1:30 p.m. EDT, only. Interested parties may access the teleconference at 877/331-6867. The participant code is 949464.

STATUS: Portions of the meeting will be closed to the public in accordance with provisions set forth in section 552b(c)(4) and (6), Title 5 U.S.C., and the Determination of the Associate Director for Management and Operations, CDC, pursuant to Public Law 92-463.

MATTERS TO BE DISCUSSED: The meeting will include the review, discussion, and evaluation of supplemental award applications received in response to Program Announcement #98047.

CONTACT PERSON FOR MORE INFORMATION: David Elswick, Centers for Disease Control and Prevention, National Center for Chronic Disease Prevention and Health Promotion, 4770 Buford Highway m/s K30, Atlanta, GA., 30341. Telephone 770/488-5395, email dce1@cdc.gov.

The Director, Management Analysis and Services office has been delegated the authority to sign Federal Register notices pertaining to announcements of meetings and other committee management activities, for both the Centers for Disease Control and Prevention and the Agency for Toxic Substances and Disease Registry.

Dated: July 25, 2000.
Carolyn J. Russell,
Director, Management Analysis and Services Office, Centers for Disease Control and Prevention.

[FR Doc. 00-19462 Filed 7-28-00; 10:36 am]

BILLING CODE 4163-18-P